DEPARTMENT OF ENERGY

Proposed Agency Information Collection

AGENCY: U.S. Department of Energy.

ACTION: Notice and Request for OMB Review and Comment.

SUMMARY: The Department of Energy (DOE) has submitted to the Office of Management and Budget (OMB) for clearance, a proposal for collection of information under the provisions of the Paperwork Reduction Act of 1995. The information collection requests a reinstatement for a three-year approval of the Commercial Buildings Energy Consumption Survey (CBECS), Forms EIA871A through J, OMB Control Number 1905-0145. The proposed collection will collect baseline data on energy consumption and expenditures in commercial buildings and on the energy-related characteristics of those buildings. To obtain this information, interviews are conducted for a sample of commercial buildings representing the 50 States and the District of Columbia. For buildings in the survey, data are collected on the types, amount and cost of energy consumed in the building, how the energy is used, structural characteristics of the buildings, activities conducted inside the buildings that relate to energy use, building ownership and occupancy, energy conservation measures, and energy-using equipment. For those buildings that cannot provide energy consumption data for the building, the data will be obtained in a follow-up survey from the suppliers of electricity, natural gas, fuel oil and/or district heat to the building, after receiving permission from the building owner, manager or tenant.

DATES: Comments regarding this collection must be received on or before October 15, 2012. If you anticipate that you will be submitting comments, but find it difficult to do so within the period of time allowed by this notice, please advise the DOE Desk Officer at OMB of your intention to make a submission as soon as possible. The Desk Officer may be telephoned at 202-395-4650.

ADDRESSES: Written comments should be sent to the DOE Desk Officer, Office of Information and Regulatory Affairs, Office of Management and Budget, New Executive Office Building, Room 10102, 735 17th Street NW., Washington, DC 20503.

And to Joelle Michaels, CBECS Survey Manager, U.S. Department of Energy, EI-22, 1000 Independence Ave SW., Washington, DC 20585, Email: joelle.michaels@eia.gov, Phone: (202) 586-8952.

FOR FURTHER INFORMATION CONTACT: Requests for additional information should be directed to Joelle Michaels at the address listed above.

SUPPLEMENTARY INFORMATION: This information collection request contains: (1) OMB No.: 1905-0145; (2) Information Collection Request Title: EIA-871A-J, “Commercial Buildings Energy Consumption Survey”; (3) Type of Request: Reinstatement with change, of a previously approved collection for which approval has discontinued; (4) Purpose: The EIA-871A-J is used to collect data on energy consumption by commercial buildings and the characteristics of these buildings. The surveys fulfill planning, analyses and decision-making needs of DOE, other Federal agencies, State governments, and the private sector. Respondents are owners/managers of selected commercial buildings and their energy suppliers. Response obligations are Voluntary (building owners) and Mandatory (energy suppliers); (5) Annual Estimated Number of Respondents: 5,142; (6) Annual Estimated Number of Total Responses: 5,142; (7) Annual Estimated Number of Burden Hours: 3,978; (8) Annual Estimated Reporting and Recordkeeping Cost Burden: 0.

Statutory Authority: Section 13(b) of the Federal Energy Administration Act of 1974, Public Law 93-275, codified at 15 U.S.C. 772(b).

Issued in Washington, DC on September 10, 2012.
Stephanie Brown,
Director, Office of Survey Development and Statistical Integration, U.S. Energy Information Administration.

[FR Doc. 2012-22692 Filed 9-13-12; 8:45 am]

BILLING CODE 6450-01-P